DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2009.

Interested persons are invited to submit written comments regarding the subject matter of the investigations to the Director, Division of Trade Adjustment Assistance, at the address shown below, not later than November 16, 2009

The petitions filed in this case are available for inspection at the Division of Trade Adjustment Assistance, Employment and Training Administration, U.S. Department of Labor, Room N-5428, 200 Constitution Avenue, NW., Washington, DC 20210.

Signed at Washington, DC, this 26th day of October 2009.
Richard Church,
Certifying Officer, Division of Trade Adjustment Assistance.

Appendix
[TAA petitions instituted between 9/14/09 and 9/18/09]
TA-W | Subject firm (petitioners) | Location | Date of institution | Date of petition
72285 | Sunoco (Wkrs) | Lancaster, OH | 09/14/09 | 09/11/09
72286 | Unisys (Wkrs) | Plymouth, MI | 09/14/09 | 09/11/09
72287 | Blue Cross Blue Shield of Michigan (Wkrs) | Grand Rapids, MI | 09/14/09 | 09/09/09
72288 | Caterpillar (Wkrs) | Aurora, IL | 09/14/09 | 09/08/09
72289 | ISP Stitching of Racine (Wkrs) | Racine, WI | 09/14/09 | 09/09/09
72290 | General Motors-MFD Pontiac (Union) | Pontiac, MI | 09/14/09 | 09/09/09
72291 | EDS, an HP Company (Wkrs) | Detroit, MI | 09/14/09 | 09/11/09
72292 | S.C. Garment, Inc. (Wkrs) | San Francisco, CA | 09/14/09 | 09/04/09
72293 | Bennington Furniture, Inc. (Wkrs) | Sharpsville, PA | 09/14/09 | 09/10/09
72294 | Kimball Office-Jasper (Comp) | Jasper, IN | 09/15/09 | 09/14/09
72295 | Kimball Office-Post Falls (comp) | Post Falls, ID | 09/15/09 | 09/14/09
72296 | Kimball Office Sales & Marketing (Comp) | Jasper, IN | 09/15/09 | 09/14/09
72297 | National Office Furniture-Santa Claus (Comp) | Santa Claus, IN | 09/15/09 | 09/14/09
72298 | National Office Furniture-Jasper 11th Danville (comp) | Jasper, IN | 09/15/09 | 09/14/09
72299 | National Office Furniture (comp) | Jasper, IN | 09/15/09 | 09/14/09
72300 | National Office Furniture-Fordsville (Comp) | Fordsville, KY | 09/15/09 | 09/14/09
72301 | Office Furniture Group Shared Services (Comp) | Jasper, IN | 09/15/09 | 09/14/09
72302 | Princeton Delivery Systems (Wkrs) | Canal Winchester, OH | 09/15/09 | 09/14/09
72303 | PMB, Inc. (Comp) | Poplar Bluff, MS | 09/15/09 | 09/14/09
72304 | TTM Technologies (Comp) | Inglewood, CA | 09/15/09 | 09/14/09
72305 | Rave Sports, Inc. (Wkrs) | Lebanon, MO | 09/15/09 | 09/14/09
72306 | O'Bryan Brothers, Inc. (Comp) | Chicago, IL | 09/15/09 | 09/15/09
72306A | O'Bryan Brothers, Inc. (Comp) | New York, NY | 09/15/09 | 09/15/09
72307 | Toyotetsu America, Inc. (TTAI) (State) | Somerset, KY | 09/15/09 | 09/14/09
72308 | Camshaft Machine (Union) | Jackson, MI | 09/15/09 | 09/14/09
72309 | Neapco, LLC (USW) | Pottstown, PA | 09/15/09 | 09/14/09
72310 | Federal Marine Terminals, Inc. (Comp) | Eastport, ME | 09/15/09 | 09/09/09
72311 | K & B Garment, Inc. (Wkrs) | San Francisco, CA | 09/15/09 | 09/04/09
72312 | Anheuser-Busch, Inc. (State) | St. Louis, MO | 09/15/09 | 09/02/09
72313 | Printing Solutions LP (Comp) | Waynesboro, VA | 09/15/09 | 09/04/09
72314 | Air System Components (Wkrs) | El Paso, TX | 09/15/09 | 09/08/09
72315 | Nova Knits, Inc. (Comp) | New York, NY | 09/15/09 | 09/14/09
72316 | DHL (Wkrs) | St. Louis, MO | 09/15/09 | 08/31/09
72317 | Phaztech, Inc. (Wkrs) | St. Mary's, PA | 09/16/09 | 09/14/09
72318 | Grecon Dimter, Inc. (Wkrs) | Connelly Springs, NC | 09/16/09 | 09/03/09
72319 | General Motors Ypsilanti Transmission Operation (UAW) | Ypsilanti, MI | 09/16/09 | 09/14/09
72320 | Atmel Corporation (Comp) | Colorado Springs, CO | 09/16/09 | 08/21/09
72321 | PCA Electronics, Inc. (Comp) | North Hills, CA | 09/16/09 | 09/08/09
72322 | Pleasant Trucking, Inc. (Comp) | Connellsville, PA | 09/16/09 | 09/08/09
72323 | Sony Electronics (State) | Park Ridge, NJ | 09/16/09 | 09/15/09
72324 | Katahdin Paper Company (Comp) | East Millinocket, ME | 09/16/09 | 09/15/09
72325 | C&K Powder Coating (Comp) | Ebensburg, PA | 09/16/09 | 09/12/09
72326 | Managed Business Solutions, LLC (Wkrs) | Farmington Hills, MI | 09/16/09 | 09/15/09
72327 | Managed Business Solutions, LLC (Wkrs) | Colorado Springs, CO | 09/16/09 | 09/15/09
72328 | Summit Machine, Inc. (State) | Shoreview, MN | 09/16/09 | 09/15/09
72329 | Sabritec (Comp) | Irvine, CA | 09/16/09 | 09/15/09
72330 | Hughes Hardwood, Inc. (State) | Collinwood, TN | 09/16/09 | 09/15/09
72331 | Industrial Nut Corporation (Wkrs) | Sandusky, OH | 09/16/09 | 09/12/09
72332 | ArvinMeritor, Inc. (Comp) | Fletcher, NC | 09/17/09 | 09/16/09
72333 | Ellwood National Crankshaft (Wkrs) | Irvine, PA | 09/17/09 | 09/15/09
72334 | International Paper Company (State) | Shreveport, LA | 09/17/09 | 09/16/09
72335 | Husky Injection Mold, Inc. (State) | Milton, VT | 09/17/09 | 09/16/09
72336 | Iseli Company (State) | Plymouth, CT | 09/17/09 | 09/09/09
72337 | Intermec Technologies Corporation (Comp) | Charlotte, NC | 09/17/09 | 09/16/09
72338 | Analogix Semiconductor (Wkrs) | Santa Clara, CA | 09/17/09 | 09/14/09
72339 | Eastman Kodak Company (Comp) | Dayton, OH | 09/17/09 | 09/16/09
72340 | Nortel (Wkrs) | Richardson, TX | 09/18/09 | 09/17/09
72341 | Columbus SPO AC-Delco (Wkrs) | Groveport, OH | 09/18/09 | 09/15/09
72342 | Federal Signal Corporation (Union) | University Park, IL | 09/18/09 | 09/17/09
72343 | Chamberlain Wireless Products Group, Inc. (Comp) | Vancouver, WA | 09/18/09 | 09/15/09
72344 | Keane, Inc. (Wkrs) | Syracuse, NY | 09/18/09 | 09/09/09
72345 | Carolina Glue Chip, Inc. (Comp) | Wilkesboro, NC | 09/18/09 | 09/15/09
72346 | Finisar Corporation (Wkrs) | Sunnyvale, CA | 09/18/09 | 09/17/09
72347 | Genesis Furniture Industries (Wkrs) | Spruce Pine, NC | 09/18/09 | 09/10/09
72348 | Cooper Wiring Devices (Comp) | Brunswick, ME | 09/18/09 | 09/17/09
72349 | Calumet Penreco (Union) | Karns City, PA | 09/18/09 | 09/17/09
72350 | Gits Manufacturing Company (Wkrs) | Creston, IA | 09/18/09 | 09/17/09
72351 | Guardian Freight, LLC (Comp) | Conover, NC | 09/18/09 | 09/14/09
72352 | Roanoke Sportswear Company, Inc. (Comp) | Roanoke Rapids, NC | 09/18/09 | 09/16/09
72353 | Philips Respironics (State) | Bend, OR | 09/18/09 | 09/17/09

[FR Doc. E9-26570 Filed 11-4-09; 8:45 am]

BILLING CODE 4510-FN-P